DEPARTMENT OF DEFENSE

Office of the Secretary

[Docket ID: DoD-2021-OS-0109]

Submission for OMB Review; Comment Request

AGENCY: Office of the Under Secretary of Defense for Acquisition and Sustainment, Department of Defense (DoD).

ACTION: 30-Day information collection notice.

SUMMARY: The DoD has submitted to OMB for clearance the following proposal for collection of information under the provisions of the Paperwork Reduction Act.

DATES: Consideration will be given to all comments received by January 21, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, (571) 372-7574, whs.mc-alex.esd.mbx.dd-dod-information-collections@mail.mil.

SUPPLEMENTARY INFORMATION: Title; Associated Form; and OMB Number: Defense Manufacturing Community Support Program Grant Proposals; OMB Control Number 0704-0606.

Type of Request: Revision.

Number of Respondents: 75.

Responses per Respondent: 1.

Annual Responses: 75.

Average Burden per Response: 7 hours.

Annual Burden Hours: 525.

Needs and Uses: The Defense Manufacturing Community Support Program (DMCSP) is designed to undertake long-term investments in critical skills, facilities, research and development, and small business support in order to strengthen the national security innovation and manufacturing base. The program also seeks to ensure complementarity of those communities so designated with existing Defense Manufacturing Institutes. Defense Manufacturing Institutes are manufacturing ecosystems with common manufacturing and design challenges revolving around specific technologies. The DMCSP is designed to recognize communities that demonstrate best practices in attracting and expanding defense manufacturing. This information collection is necessary to facilitate the identification of new Defense Manufacturing Communities and the awarding of grants under the DMCSP via a grant proposal package. The proposal package is prepared in accordance to a Federal Funding Opportunity Announcement posted on the Grants.gov website.

Affected Public: Businesses or other for-profit; Not-for-profit Institutions; State, Local or Tribal Government.

Frequency: Annually.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: December 16, 2021.
Aaron T. Siegel,
Alternate OSD Federal Register Liaison Officer, Department of Defense.

[FR Doc. 2021-27674 Filed 12-21-21; 8:45 am]

BILLING CODE 5001-06-P